DEPARTMENT OF HEALTH AND HUMAN SERVICES

Announcing Solicitation of Written Comments on the Physical Activity Guidelines Midcourse Report on Older Adults; Correction

AGENCY: Office of the Assistant Secretary for Health, Office of the Secretary, Department of Health and Human Services.

ACTION: Notice; correction.

SUMMARY: The Office of the Assistant Secretary for Health published a document in the Federal Register of February 23, 2023, announcing the solicitation of rritten comments on the Physical Activity Guidelines Midcourse Report on Older Adults. The document announces the availability of the draft Physical Activity Guidelines Midcourse Report on Older Adults (Midcourse Report) and solicits written public comment on the draft report by March 10, 2023. The published Notice did not include the comment deadline.

FOR FURTHER INFORMATION CONTACT: Katrina L. Piercy, Ph.D., R.D., Office of Disease Prevention and Health Promotion (ODPHP), Office of the Assistant Secretary for Health (OASH), U.S. Department of Health and Human Services (HHS); 1101 Wootton Parkway, Suite 420; Rockville, MD 20852; Telephone: 240-453-8271. Email: PAGReviews@hhs.gov.

SUPPLEMENTARY INFORMATION:

Correction

In the Federal Register of February 24, 2023, in FR Doc. 2023-03859, on page 11922, in the first, second, and third columns, correct the “[INSERT DATE 2 WEEKS FROM POSTING].” bracketed text to read: “March 10, 2023.”

Paul Reed,
Deputy Assistant Secretary for Health, Office of Disease Prevention and Health Promotion.

[FR Doc. 2023-04215 Filed 3-1-23; 8:45 am]

BILLING CODE 4150-32-P